SECURITIES AND EXCHANGE COMMISSION

[File No. 500-1]

In the Matter of Joymain International Development Group, Inc.; Order of Suspension of Trading

June 15, 2015.

It appears to the Securities and Exchange Commission (“Commission”) that the public interest and the protection of investors require a suspension of trading in the securities of Joymain International Development Group, Inc. (CIK No. 0001061169) (“Joymain”), because of recent, unusual and unexplained market activity raising concerns regarding the adequacy and accuracy of publicly-available information, including information concerning Joymain's financial condition and scope of operations. Joymain is a Nevada corporation with a business address in Miami, Florida, and its common stock is quoted on the OTC Link (previously “Pink Sheets”) operated by OTC Markets Group, Inc. (“OTC Link”) under the ticker symbol JIDG.

Therefore, it is ordered, pursuant to Section 12(k) of the Securities Exchange Act of 1934, that trading in the securities of Joymain is suspended for the period from 9:30 a.m. EDT on June 15, 2015, through 11:59 p.m. EDT on June 26, 2015.

By the Commission.
Jill M. Peterson,
Assistant Secretary.

[FR Doc. 2015-14991 Filed 6-15-15; 4:15 pm]

BILLING CODE 8011-01-P